DEPARTMENT OF COMMERCE

Foreign-Trade Zones Board

[B-10-2019]

Foreign-Trade Zone (FTZ) 78—Nashville, Tennessee; Authorization of Production Activity; Calsonic Kansei North America (Automotive Parts); Shelbyville and Lewisburg, Tennessee

On February 21, 2019, Calsonic Kansei North America submitted a notification of proposed production activity to the FTZ Board for its facility within FTZ 78 in Shelbyville and Lewisburg, Tennessee.

The notification was processed in accordance with the regulations of the FTZ Board (15 CFR part 400), including notice in the Federal Register inviting public comment (84 FR 9083-9084, March 13, 2019). On June 21, 2019, the applicant was notified of the FTZ Board's decision that no further review of the activity is warranted at this time. The production activity described in the notification was authorized, subject to the FTZ Act and the FTZ Board's regulations, including Section 400.14.

Dated: June 21, 2019.
Elizabeth Whiteman,
Acting Executive Secretary.

[FR Doc. 2019-13616 Filed 6-25-19; 8:45 am]

BILLING CODE 3510-DS-P